DEPARTMENT OF LABOR

Office of the Assistant Secretary for Veterans' Employment and Training

Secretary of Labor's Advisory Committee for Veterans' Employment and Training; Notice of Open Meeting

The Secretary's Advisory Committee for Veterans' Employment and Training was established under section 4110 of title 38, United States Code, to bring to the attention of the Secretary, problems and issues relating to veterans' employment and training.

Notice is hereby given that the Secretary of Labor's Advisory Committee for Veterans' Employment and Training will meet on Tuesday, June 6, 2000, at the U.S. Department of Labor, 200 Constitution Avenue, NW., Room S-2508, Washington, DC 20210, from 9 a.m. to 4 p.m.

Written comments are welcome and may be submitted by addressing them to: Ms. Polin Cohanne, Designated Federal Official, Office of the Assistant Secretary for Veterans' Employment and Training, U.S. Department of Labor, 200 Constitution Avenue, NW., Room S-1313, Washington, DC 20210.

The agenda is open.

The meeting will be open to the public.

Persons with disabilities needing special accommodations should contact Ms. Polin Cohanne at telephone number 202-693-4741 no later than May 24, 2000.

Signed at Washington, DC this May 10, 2000.
Espiridion (Al) Borrego,
Assistant Secretary of Labor for Veterans' Employment and Training.

[FR Doc. 00-12288 Filed 5-15-00; 8:45 am]

BILLING CODE 4510-79-M